Title 3—

The President

Proclamation 8064 of October 5, 2006

National School Lunch Week, 2006

By the President of the United States of America

A Proclamation

For 60 years, the National School Lunch Program has contributed to the health and well-being of America's youth. National School Lunch Week highlights the many achievements of the National School Lunch Program and the importance of helping children develop good nutrition habits.

Eating healthy foods and maintaining an active lifestyle are vital for children's health and reduce their risk of serious long-term health problems, such as obesity, asthma, and diabetes. The National School Lunch Program, part of the United States Department of Agriculture (USDA), provides more than 29 million children with healthy meals each day. The program raises awareness about the importance of good food choices and trains food service professionals to prepare nutritious breakfasts, lunches, and snacks that include foods rich in vitamins, minerals, and fiber. In addition, the USDA offers educational resources for school nutrition directors, managers, and staff based on the requirements for healthy school meals established in the Dietary Guidelines for Americans. By promoting good nutrition and exercise, schools can help children develop well-balanced diets and lead healthier lives.

During National School Lunch Week, we recognize dedicated parents, school officials, community leaders, and food service professionals for their efforts to ensure that our children are provided with nutritious meals each day.

In recognition of the contributions of the National School Lunch Program to the health, education, and well-being of America's children, the Congress, by joint resolution of October 9, 1962 (Public Law 87-780), as amended, has designated the week beginning on the second Sunday in October of each year as “National School Lunch Week,” and has requested the President to issue a proclamation in observance of this week.

NOW, THEREFORE, I, GEORGE W. BUSH, President of the United States of America, do hereby proclaim the week of October 8 through October 14, 2006, as National School Lunch Week. I call upon all Americans to join the dedicated individuals who administer the National School Lunch Program in appropriate activities that support the health and well-being of our Nation's children.

IN WITNESS WHEREOF, I have hereunto set my hand this fifth day of October, in the year of our Lord two thousand six, and of the Independence of the United States of America the two hundred and thirty-first.

[FR Doc. 06-8648

Filed 10-10-06; 8:45 am]

Billing code 3195-01-P